DEPARTMENT OF ENERGY

Federal Energy Regulatory Commission

[Project No. 14453-000]

Prineville Energy Storage, LLC; Notice of Preliminary Permit Application Accepted for Filing and Soliciting Comments, Motions To Intervene, and Competing Applications

On August 31, 2012, Prineville Energy Storage, LLC, filed an application for a preliminary permit, pursuant to section 4(f) of the Federal Power Act (FPA), proposing to study the feasibility of the Prineville Pumped Storage Project (project) to be located on Prineville Reservoir, near Prineville in Crook County, Oregon. The sole purpose of a preliminary permit, if issued, is to grant the permit holder priority to file a license application during the permit term. A preliminary permit does not authorize the permit holder to perform any land-disturbing activities or otherwise enter upon lands or waters owned by others without the owners' express permission.

The proposed project would consist of the following: (1) A 40-foot-high, 6,580-foot-long upper concrete-faced rockfill or roller-compacted concrete dam; (2) an upper reservoir with surface area of 57 acres, storage capacity of 2,260 acre-feet, and maximum pool elevation of 3,920 feet mean sea level (msl); (3) a 245-foot-high, 800-foot-long lower earthfill dam; (4) a lower reservoir with surface area of 3,030 acres, storage capacity of 154,700 acre-feet, and maximum pool elevation of 3,234 feet msl; (5) two, 10-foot-diameter, 2,630-foot-long buried or semi-buried steel headrace conduits; (6) a 150-foot-long, 40-foot-wide, 100-foot-high underground powerhouse containing three reversible pump-turbines with total installed capacity of 150 megawatts; (7) two, 11-foot-diameter, 600-foot-long buried steel tailrace conduits; (8) a 15.6 to 16.2 mile, 115-kilovolt overhead transmission line extending from the powerhouse to either: (i) the Pacific Direct Current Intertie (PDCI) line and then running parallel to the PDCI to the Ponderosa substation, or (ii) the Bonneville Power Administration (BPA) existing transmission line corridor and then running parallel to the BPA line to the Ponderosa substation; and (9) appurtenant facilities. The estimated annual generation of the project would be 394 gigawatt-hours.

Applicant Contact: Mr. Matthew Shapiro, Chief Executive Officer, Prineville Energy Storage, LLC, 1210 W. Franklin Street, Ste. 2, Boise, Idaho 83702; phone: (208) 246-9925.

FERC Contact: John Matkowski; phone: (202) 502-8576.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14453) in the docket number field to access the document. For assistance, contact FERC Online Support.

Dated: February 5, 2013.
Kimberly D. Bose,
Secretary.

[FR Doc. 2013-03011 Filed 2-8-13; 8:45 am]

BILLING CODE 6717-01-P